DEPARTMENT OF ENERGY

Federal Energy Regulatory Commission

Notice of Effectiveness of Exempt Wholesale Generator Status

| Docket Nos.
Escape Solar LLC | EG25-49-000
Long Beach Generation LLC | EG25-50-000
Woodward Energy Storage, LLC | EG25-51-000
Amite Solar, LLC | EG25-52-000
Green River Solar, LLC | EG25-53-000
Bocanova Power II LLC | EG25-54-000
Washington Wind LLC | EG25-55-000
Blue Moon Energy LLC | EG25-56-000
Crossover Wind LLC | EG25-57-000
Windfield Solar I, LLC | EG25-58-000
SMT Mission II LLC | EG25-59-000
Redfield PV I, LLC | EG25-60-000
Pontotoc Wind, LLC | EG25-61-000
RE Papago PV LLC | EG25-62-000
Ratts 1 Solar LLC | EG25-63-000
Ratts 1 Phase 2 Solar, LLC | EG25-64-000
Excel Advantage Services, LLC | EG25-65-000
Chillingham Storage LLC | EG25-66-000
Padua Grid, LLC | EG25-67-000
59TC 8me LLC | EG25-68-000
Painter Energy Storage, LLC | EG25-69-000
Rio Lago Solar, LLC | EG25-70-000

Take notice that during the month of February 2025, the status of the above-captioned entities as Exempt Wholesale Generators became effective by operation of the Commission's regulations. 18 CFR 366.7(a) (2024).

Dated: March 4, 2025.
Carlos D. Clay,
Deputy Secretary.

[FR Doc. 2025-03789 Filed 3-7-25; 8:45 am]

BILLING CODE 6717-01-P